DEPARTMENT OF THE INTERIOR

National Park Service

[NPS-WASO-NRNHL-23391; PPWOCRADI0, PCU00RP14.R50000]

National Register of Historic Places; Notification of Pending Nominations and Related Actions

AGENCY: National Park Service, Interior.

ACTION: Notice.

SUMMARY: The National Park Service is soliciting comments on the significance of properties nominated before May 6, 2017, for listing or related actions in the National Register of Historic Places.

DATES: Comments should be submitted by June 22, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before May 6, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Miracle Mile Historic District, Alignment of Miracle Mile, Oracle Rd., Drachman St. & Stone Ave., Tucson, SG100001208

COLORADO

Pueblo County

Roselawn Cemetery, 1706 Roselawn Rd., Pueblo, SG100001212

DISTRICT OF COLUMBIA

District of Columbia

Scheele—Brown House, 2207 Foxhall Rd. NW., Washington, SG100001213

IOWA

Black Hawk County

Wild, Daniel and Margaret, House, 501 W. 1st. St., Cedar Falls, SG100001214

Dubuque County

Concord Congregational Cemetery, 21755 US 52 N., Durango vicinity, SG100001215

Cottage Hill Methodist—Episcopal Cemetery, 22001 US 52 N., Durango vicinity, SG100001216

Madison County

Kellogg, Miles and Elizabeth Smith, House, (Legacy in Stone: The Settlement Era of Madison County, Iowa TR), Off G50, Winterset vicinity, 87002140

MASSACHUSETTS

Plymouth County

Winslow Cemetery, Winslow Cemetery Rd., Marshfield, SG100001219

MINNESOTA

Ramsey County

St. Paul, Minneapolis and Manitoba Railway Company Shops Historic District, (Railroads in Minnesota MPS), Jackson St. & Pennsylvania Ave., St. Paul, MP100001228

NORTH DAKOTA

Cass County

Anderson, George and Beth, House, 1458 S. River Rd., Fargo, SG100001221

TEXAS

Comal County

Fischer Historic District, Roughly bounded by Fischer Store Rd., FM 32, Patriotic & Let's Roll Drs., Fischer, SG100001222

Fayette County

Flatonia Historic District, Roughly bounded by N. Main, 7th, Middle, Market, 6th, Penn, S. Main & Faires Sts., Flatonia, SG100001223

Galveston County

Lost Bayou Historic District, Roughly bounded by Broadway, Ave. N, 14th & 21st Sts., Galveston, SG100001224

Lamar County

Paris Commercial Historic District (Boundary Increase), (Paris MRA), 100 3rd St. NW., Paris, BC100001226

Tarrant County

Masonic Temple, 1100 Henderson St., Fort Worth, SG100001227

A request for removal has been made for the following resource(s):

TEXAS

Harris County

Schauer Filling Station, (Houston Heights MRA), 1400 Oxford St., Houston, OT83004478

An additional documentation has been received for the following resource(s):

ARKANSAS

Clay County

Rector Commercial Historic District, Bounded by St. Louis and Southwestern Railroad tracks on the E. and S., S. Dodd on the W., 3rd St. on the N., Rector, AD09000369

Independence County

Batesville Commercial Historic District, Main and Central Sts., Batesville, AD82000834

IOWA

Polk County

Sherman Hill Historic District, Roughly bounded by Woodland Ave., 19th, School, and 15th Sts., Des Moines, AD79000926

NEW YORK

Dutchess County

Ethal House, (Poughkeepsie MRA), 171 Hooker Ave., Poughkeepsie, AD82001134

Nominations submitted by Federal Preservation Officers:

The State Historic Preservation Officer reviewed the following nominations and responded to the Federal Preservation Officer within 45 days of receipt of the nominations and supports listing the properties in the National Register of Historic Places.

CALIFORNIA

Plumas County

Mount Harkness Fire Lookout, (Historic Park Landscapes in National and State Parks MPS), Lassen Volcanic NP, Mineral vicinity, MP100001211

LOUISIANA

Orleans Parish

Federal Building, 600 S. Maestri Pl., New Orleans, SG100001218

Authority: 60.13 of 36 CFR part 60.

Dated: May 12, 2017.
J. Paul Loether,
Chief, National Register of Historic Places/National Historic Landmarks Program.

[FR Doc. 2017-11738 Filed 6-6-17; 8:45 am]

BILLING CODE 4312-52-P